DEPARTMENT OF ENERGY

Federal Energy Regulatory Commission

Combined Notice of Filings

Take notice that the Commission has received the following Natural Gas Pipeline Rate and Refund Report filings:

Filings Instituting Proceedings

Docket Numbers: RP14-550-000.

Applicants: Columbia Gulf Transmission, LLC.

Description: Report on Investigation of Lost and Unaccounted for Gas Volumes [TRA/LAUF] of Columbia Gulf Transmission, LLC.

Filed Date: 10/15/14.

Accession Number: 20141015-5167.

Comments Due: 5 p.m. ET 10/27/14.

Docket Numbers: RP14-551-000.

Applicants: Columbia Gas Transmission, LLC.

Description: Report on Investigation of Lost and Unaccounted for Gas Volumes [RAM/LAUF] of Columbia Gas Transmission, LLC.

Filed Date: 10/15/14.

Accession Number: 20141015-5168.

Comments Due: 5 p.m. ET 10/27/14.

Docket Numbers: RP15-50-000.

Applicants: American Midstream (AlaTenn), LLC.

Description: § 4(d) rate filing per 154.204: AlaTenn OFO and Change of Address Filing to be effective 11/15/2014.

Filed Date: 10/15/14.

Accession Number: 20141015-5075.

Comments Due: 5 p.m. ET 10/27/14.

Docket Numbers: RP15-51-000.

Applicants: Algonquin Gas Transmission, LLC.

Description: § 4(d) rate filing per 154.204: Negotiated Rate Release—KeySpan to BUG eff 11-1-2014 to be effective 11/1/2014.

Filed Date: 10/16/14.

Accession Number: 20141016-5031.

Comments Due: 5 p.m. ET 10/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 16, 2014.
Nathaniel J. Davis, Sr.,
Deputy Secretary.

[FR Doc. 2014-25706 Filed 10-28-14; 8:45 am]

BILLING CODE 6717-01-P